DEPARTMENT OF THE INTERIOR

Bureau of Land Management

[OR-056-1610DQ011H; HAG-04-0240]

Notice of Availability of the Proposed Upper Deschutes Resource Management Plan and Final Environmental Impact Statement

AGENCY: Bureau of Land Management, Interior.

ACTION: Notice of Availability.

SUMMARY: In accordance with the Federal Land Policy and Management Act (FLPMA) of 1976, the National Environmental Policy Act (NEPA) of 1969, the Bureau of Land Management (BLM) has prepared a Proposed Resource Management Plan (PRMP) and Final Environmental Impact Statement (FEIS) for the Upper Deschutes portion of the Deschutes Resource Area of the Prineville District. This Notice of Availability also serves as a notice of realty action in accordance with 43 CFR 2920.4 to be made available for non-competitive lease under Section 302(b) of FLPMA for military use by the Oregon Military Department and National Guard.

DATES: BLM Planning Regulations (43 CFR 1610.5-2) state that any person who participated in the planning process, and has an interest that may be adversely affected, may protest. The protest must be filed within 30 days of the date that the Environmental Protection Agency publishes its notice in the Federal Register. Instructions for filing of protests are described in the “Dear Interested Party” letter of the Upper Deschutes PRMP/FEIS and included in the SUPPLEMENTARY INFORMATION section of this Notice.

FOR FURTHER INFORMATION CONTACT: Mollie Chaudet, Project Manager, Bureau of Land Management, 3050 N.E. Third St., Prineville, Oregon, 97754, telephone (541-416-6872), fax (541-416-6798), or e-mail (upper_deschutes_RMP@or.blm.gov).

SUPPLEMENTARY INFORMATION: This planning activity encompasses approximately 400,000 acres of public land in the Deschutes Resource Area, Prineville District, and is located primarily in Deschutes, Crook, and Jefferson Counties in central Oregon. The BLM has worked and will continue to work closely with all interested parties to identify management decisions that are best suited to the needs of the public. Final decisions will revise the portion of the Brothers La-Pine Resource Management Plan (1989) included in the Upper Deschutes planning area boundary, and will modify the boundary of the Two Rivers RMP. Some management direction will be clarified for the Middle Deschutes and Lower Crooked River Wild and Scenic River Plans. The Upper Deschutes Resource Management Plan will also incorporate strategies and direction provided by the National and Central Oregon Fire Management Plan.

This land use plan focuses on the principles of multiple use management and sustained yield as prescribed by Section 202 of the FLPMA. The PRMP/FEIS considers and analyzes seven alternatives. These alternatives were developed based on a unique collaborative process. The Deschutes Provincial Advisory Committee chartered a working group including tribal, federal, state and local governments, private citizens, and interest groups. The working group reached consensus on the range of alternatives, reviewed public comments on the Draft EIS, and reached consensus on changes to the Draft Preferred Alternative.

The alternatives detailed in the PRMP/FEIS provide for a wide array of land use allocations and management direction as well as variable levels of resource protection, commodity production, and authorized land and resource uses. Alternative 7, the BLM preferred alternative (as modified by public comment on the Draft RMP/EIS,) is the basis for the goals, objectives, and guidelines included in the Proposed RMP. The PRMP provides a balance of land and resource uses across the planning area and provides the framework for making present and future decisions for authorizing activities, such as grazing and mineral uses, considering the significant population growth anticipated in the area over the next 10-20 years.

The plan will also allocate lands within the planning area for the long-term training use of the Oregon Military Department and National Guard. The lands identified for military use within the Upper Deschutes RMP are proposed for non-competitive lease under Section 302(b) of FLPMA. The legal description of the lands proposed for lease are identified within the PRMP/FEIS.

Copies of the Upper Deschutes PRMP/FEIS have been sent to affected Federal, State, and local government agencies and to interested parties. The PRMP/FEIS is available for public inspection at the Prineville District Office in Prineville, Oregon, during regular business hours (7:45 a.m. to 4:30 p.m., Monday through Friday, except holidays). Copies are also available at the Deschutes, Jefferson, and Crook County Libraries. Interested persons may also review the PRMP/FEIS on the Internet at: http://www.or.blm.gov/Prineville/Deschutes_RMP/Home.htm. Comments on the Draft RMP/EIS received from the public and internal BLM review comments were incorporated into the proposed plan where appropriate. Comments resulted in clarifications, technical corrections, changes to the alternatives, and changes to the analysis.

Instructions for filing a protest with the Director of the BLM regarding the PRMP/FEIS may be found at 43 CFR 1610.5. A protest may only raise those issues that were submitted for the record during the planning process. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112 and e-mails to Brenda_Hudgens-Williams@blm.gov. Please direct the follow-up letter to the appropriate address provided below. To be considered complete, your protest must contain (at a minimum) the following information:

(1) Name, mailing address, telephone number, and the affected interest of the person filing the protest(s).

(2) A statement of the part or parts of the proposed plan being protested. To the extent possible, reference specific pages, paragraphs, and sections of the document.

(3) A copy of all your documents addressing the issue or issues which were discussed with the BLM for the record.

(4) A concise statement explaining why the proposed decision is believed to be incorrect. This is a critical part of your protest. Document all relevant facts, as much as possible. A protest merely expressing disagreement with the State Director's proposed decision without providing any supporting data will not be considered a valid protest.

All protests must be in writing and mailed to the following address:

Regular Mail: Director, WO-210/LS-1075, Bureau of Land Management, Attn: Brenda Hudgens-Williams, Department of the Interior, P.O. Box 66538, Washington, DC 20240.

Overnight Mail: Director, WO-210/LS-1075, Bureau of Land Management, Attn: Brenda Hudgens-Williams, Department of the Interior, 1620 L Street, NW., Suite 1075, Washington, DC 20036.

To be considered timely, your protest must be postmarked no later than the last day of the protest period. Though not a requirement, we suggest you send your protest by certified mail, return receipt requested. You are also encouraged, but not required, to forward a copy of your protest to the Project Manager at the address listed under FOR FURTHER INFORMATION above. This may allow us to resolve the protest through clarification of intent or alternative dispute resolution methods.

Please note that protests, including names and street addresses, are available for public review and/or release under the Freedom of Information Act (FOIA). Individual respondents may request confidentiality. Respondents who wish to withhold their name and/or street address from public review or from disclosure under FOIA must state this prominently at the beginning of the written comment. Such request will be honored to the extent allowed by law. All submissions from organizations or businesses, and from individuals identifying themselves as representatives of official organizations or businesses, will be made available for public inspection in their entirety.

The Director will promptly render a decision on the protest. This decision will be in writing and will be sent to the protesting party by certified mail, return receipt requested. The decision of the Director shall be the final decision of the Department of the Interior.

Elaine M. Brong,
Oregon State Director.

[FR Doc. 05-732 Filed 1-13-05; 8:45 am]

BILLING CODE 4310-33-P